ENVIRONMENTAL PROTECTION AGENCY

[EPA-HQ-OAR-2016-0027; FRL-10005-13-OMS]

Information Collection Request Submitted to OMB for Review and Approval; Comment Request; On-Highway Motorcycle Certification and Compliance Program (Renewal)

AGENCY: Environmental Protection Agency (EPA).

ACTION: Notice.

SUMMARY: The Environmental Protection Agency (EPA) has submitted an information collection request (ICR), On-Highway Motorcycle Certification and Compliance Program (ICR Number 2535.02, OMB Control Number 2060-0710), to the Office of Management and Budget (OMB) for review and approval in accordance with the Paperwork Reduction Act. This is a proposed extension of the ICR, which is currently approved through March 31, 2020. Public comments were previously requested via the Federal Register on November 4, 2019 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 29, 2020.

ADDRESSES: Submit your comments, referencing Docket ID number EPA-HQ-OAR-2016-0027, to (1) (1) EPA online using www.regulations.gov (our preferred method), by email to a-and-docket@epamail.epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Julian Davis, Environmental Protection Agency, 2000 Traverwood, Ann Arbor MI 48105; telephone number: (734) 214-4029; fax number: (734) 214-4869; email address: davis.julian@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Under the Clean Air Act (42 U.S.C. 7521 et seq.) manufacturers and importers of on-highway motorcycles must have a certificate of conformity issued by EPA covering any vehicle they intend to offer for sale in the United States. A certificate of conformity represents that the respective vehicle conforms to all applicable emissions requirements. In issuing a certificate of conformity, EPA reviews vehicle information and emissions test data to determine if the required testing has been performed and the required emissions levels have been demonstrated. After a certificate of conformity has been issued, the Agency may request additional information to verify that the product continues to meet its certified emissions standards throughout its useful life. An agency may not conduct or sponsor, and a person is not required to respond to, a collection of information unless it displays a currently valid OMB control number. The OMB control numbers for EPA's regulations in 40 CFR are listed in 40 CFR part 9.

Form Numbers: Highway Motorcycle HC+NOx Average Exhaust Emissions Model Year Report (5900-339); Manufacturer Production Report for Engine/Equipment Manufacturers—Heavy-Duty, Nonroad, and Highway Motorcycles (5900-90); List of Emissions Related Components (5900-NEW); Catalyst Information (5900-464).

Respondents/Affected Entities: On-highway motorcycle manufacturers and importers.

Estimated Number of Respondents: 55.

Frequency of Response: Quarterly and annually.

Total estimated burden: 15,420 hours (per year).

Total estimated cost: $741,499 (per year), includes $182,560 annualized operation & maintenance costs, $97,644 annualized capital/startup costs.

Changes in the estimates: These estimates reflect updated assumptions about the number of manufacturers that will maintain their own testing and certification facility. Since the previous ICR was submitted, more manufacturers have been using contract test facilities and utilizing carry over data to meet certification and compliance requirements.

Courtney Kerwin,
Director, Regulatory Support Division.

[FR Doc. 2020-06576 Filed 3-27-20; 8:45 am]

BILLING CODE 6560-50-P